DEPARTMENT OF THE TREASURY

Office of Thrift Supervision

[AC-02: OTS Nos. H-2723 and 011247]

Chesterfield Financial Corp., Chicago, Illinois; Approval of Conversion Application

Notice is hereby given that on March 13, 2001, the Managing Director, Office of Supervision, Office of Thrift Supervision, or his designee, acting pursuant to delegated authority, approved the application of Chesterfield Federal Savings and Loan Association of Chicago, Chicago, Illinois, to convert to the stock form of organization. Copies of the application are available for inspection at the Dissemination Branch, Office of Thrift Supervision, 1700 G Street, NW., Washington, DC 20552, and the Central Regional Office, Office of Thrift Supervision, 200 West Madison Street, Suite 1300, Chicago, Illinois 60606.

Dated: March 15, 2001.
By the Office of Thrift Supervision.
Nadine Y. Washington,
Corporate Secretary.

[FR Doc. 01-6914 Filed 3-19-01; 8:45 am]

BILLING CODE 6720-01-M